DEPARTMENT OF LABOR

Office of the Secretary

Submission for OMB Review; Comment Request

April 29, 2002.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King on (202) 693-4129 or E-Mail: King-Darrin@dol.gov.

Comments should be sent to Office of Information and Regulatory Affairs, Attn: OMB Desk Officer for OSHA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Occupational Safety and Health Administration (OSHA).

Title: Hazard Communication—29 CFR 1200; 1915; 1917; 1918; 1926; 1928.

OMB Number: 1218-0072.

Affected Public: Business or other for-profit; farms; Federal Government; and State, Local, or Tribal Government.

Frequency: On occasion.

Number of Respondents: 6,035,925.

Type of Response: Recordkeeping and Third-party disclosure.

Requirement | Annual responses | Average response time (hours) | Estimated annual burden hours
1. Written Hazard Communication Program—New Establishments:
Manufacturing | 5,258 | 5.00 | 26,290
Non-Manufacturing | 61,465 | 2.50 | 153,663
2. Written Hazard Communication Program—Existing Establishments:
Manufacturing | 154,644 | 1.00 | 154,644
Non-Manufacturing | 2,259,726 | 0.50 | 1,129,863
3. Hazardous Determination | 30,248 | 8 | 241,984
4. Existing Establishments Sending of MSDSs for New Hazardous:
Manufacturing | 1,014,462 | 0.14 | 142,025
Non-Manufacturing | 3,434,784 | 0.14 | 480,870
5. New Establishments Sending MSDSs for All Hazardous Chemicals:
Manufacturing | 465,648 | 0.14 | 65,191
Non-Manufacturing | 1,261,262 | 0.14 | 176,577
6. Obtaining & Maintaining MSDSs—Existing Establishments:
Manufacturing | 154,644 | 1.00 | 154,644
Non-Manufacturing | 2,259,726 | 1.00 | 2,259,726
7. Obtaining & Maintaining MSDSs—New Establishments:
Manufacturing | 465,648 | 0.14 | 65,191
Non-Manufacturing | 1,261,262 | 0.14 | 176,577
8. Labeling Shipping Containers | 0 | 0.00 | 0
9. Labeling In-Plant Containers | 443,636,930 | 0.0033 | 1,464,002
10. Access to Trade Secrets | 62,870 | 4.00 | 251,480
Employee Access | 3,621,555 | 0.17 | 603,351
Federal Access | 92,351 | 0.08 | 7,388
Total | 460,242,484 |  | 7,553,465

Total Annualized Capital/Startup Costs: $0.

Total Annual Costs (operating/maintaining systems or purchasing services): $247,039.

Description: 29 CFR 1200; 1915; 1917; 1918; 1926; and 1928 require all employers to establish hazard communication programs and to transmit information on the hazards of chemicals to their employees by means of container labels, material safety data sheets and training programs. These actions reduce the incidents of chemical-related illnesses and injury in the workplace.

Ira L. Mills,
Departmental Clearance Officer.

[FR Doc. 02-11155 Filed 5-3-02; 8:45 am]

BILLING CODE 4510-23-M